DEPARTMENT OF ENERGY

Federal Energy Regulatory Commission

Combined Notice of Filings #1

Take notice that the Commission received the following electric corporate filings:

Docket Numbers: EC25-24-000.

Applicants: LWP Lessee, LLC, MC Lakefield Holdings LLC, F8 Renewables CAMN Funding, LLC.

Description: Joint Application for Authorization Under Section 203 of the Federal Power Act of LWP Lessee, LLC, et al.

Filed Date: 11/19/24.

Accession Number: 20241119-5195.

Comment Date: 5 p.m. ET 12/10/24.

Take notice that the Commission received the following exempt wholesale generator filings:

Docket Numbers: EG25-38-000.

Applicants: Scatter Wash Energy Storage LLC.

Description: Scatter Wash Energy Storage LLC submits Notice of Self-Certification of Exempt Wholesale Generator Status.

Filed Date: 11/20/24.

Accession Number: 20241120-5170.

Comment Date: 5 p.m. ET 12/11/24.

Take notice that the Commission received the following electric rate filings:

Docket Numbers: ER24-2824-000; ER24-2824-001; ER24-2824-002.

Applicants: RE Papago LLC.

Description: Second Supplement to August 21, 2024, RE Papago LLC tariff filing.

Filed Date: 11/19/24.

Accession Number: 20241119-5193.

Comment Date: 5 p.m. ET 11/26/24.

Docket Numbers: ER24-3091-001.

Applicants: PJM Interconnection, L.L.C.

Description: Tariff Amendment: Amendment of ER24-3091-000; re: Original WMPA No. 7371; AG1-559 to be effective 8/23/2024.

Filed Date: 11/20/24.

Accession Number: 20241120-5159.

Comment Date: 5 p.m. ET 12/11/24.

Docket Numbers: ER25-68-001.

Applicants: PJM Interconnection, L.L.C.

Description: Tariff Amendment: Amendment of ER25-68-000 re: Original GIA SA No. 7376; AF1-208 to be effective 9/9/2024.

Filed Date: 11/20/24.

Accession Number: 20241120-5124.

Comment Date: 5 p.m. ET 12/11/24.

Docket Numbers: ER25-484-000.

Applicants: Portland General Electric Company.

Description: 205(d) Rate Filing: PGE- PacifiCorp Grassland Interconnection Agreement to be effective 11/4/2024.

Filed Date: 11/19/24.

Accession Number: 20241119-5159.

Comment Date: 5 p.m. ET 12/10/24.

Docket Numbers: ER25-485-000.

Applicants: Public Service Company of New Mexico.

Description: 205(d) Rate Filing: Certificates of Concurrences Associated with Multiparty Agreements to be effective 10/14/2024.

Filed Date: 11/19/24.

Accession Number: 20241119-5184.

Comment Date: 5 p.m. ET 12/10/24.

Docket Numbers: ER25-486-000.

Applicants: Viridon New York Inc.

Description: Viridon New York Inc. submits Request for Authorization to Utilize Certain Incentive Rate Treatment.

Filed Date: 11/19/24.

Accession Number: 20241119-5198.

Comment Date: 5 p.m. ET 12/10/24.

Docket Numbers: ER25-487-000.

Applicants: AEP Texas Inc.

Description: 205(d) Rate Filing: AEPTX-Keys Hollow Solar Generation Interconnection Agreement to be effective 10/29/2024.

Filed Date: 11/20/24.

Accession Number: 20241120-5026.

Comment Date: 5 p.m. ET 12/11/24.

Docket Numbers: ER25-488-000.

Applicants: AEP Texas Inc.

Description: 205(d) Rate Filing: AEPTX-TAI Norton Solar 2nd Amended Generation Interconnection Agreement to be effective 11/1/2024.

Filed Date: 11/20/24.

Accession Number: 20241120-5033.

Comment Date: 5 p.m. ET 12/11/24.

Docket Numbers: ER25-489-000.

Applicants: Public Service Company of Colorado.

Description: 205(d) Rate Filing: 2024-11-20—PSC-TSGT-COM-Craig to Craig Trsfr-627-0.0.0 Concurrence to be effective 11/6/2024.

Filed Date: 11/20/24.

Accession Number: 20241120-5079.

Comment Date: 5 p.m. ET 12/11/24.

Docket Numbers: ER25-490-000.

Applicants: Public Service Company of Colorado.

Description: 205(d) Rate Filing: 2024-11-20—PSC—TSGT—Spanish Peaks Pseudo-Tie—848—Concurrence to be effective 11/8/2024.

Filed Date: 11/20/24.

Accession Number: 20241120-5080.

Comment Date: 5 p.m. ET 12/11/24.

Docket Numbers: ER25-491-000.

Applicants: Public Service Company of Colorado.

Description: 205(d) Rate Filing: 2024-11-20—PSC-WAPA-O&M Agrmt-350-0.2.0-Exh M Concurrence to be effective 10/10/2024.

Filed Date: 11/20/24.

Accession Number: 20241120-5081.

Comment Date: 5 p.m. ET 12/11/24.

Docket Numbers: ER25-492-000.

Applicants: Silver State Solar Power South, LLC.

Description: Baseline eTariff Filing: Co-Tenancy SFA—Silver State Sol., Silver State Stor., & Silver State Inter. to be effective 12/1/2024.

Filed Date: 11/20/24.

Accession Number: 20241120-5092.

Comment Date: 5 p.m. ET 12/11/24.

Docket Numbers: ER25-493-000.

Applicants: Silver State South Storage, LLC.

Description: Baseline eTariff Filing: Co-Tenancy SFA Cert of Concurrence—Silver State Sol. & Silver State Inter. to be effective 12/1/2024.

Filed Date: 11/20/24.

Accession Number: 20241120-5099.

Comment Date: 5 p.m. ET 12/11/24.

Docket Numbers: ER25-494-000.

Applicants: Silver State South Interconnect, LLC.

Description: Baseline eTariff Filing: Co-Tenancy SFA Cert of Concurrence—Silver State Sol. & Silver State Storage to be effective 12/1/2024.

Filed Date: 11/20/24.

Accession Number: 20241120-5103.

Comment Date: 5 p.m. ET 12/11/24.

Docket Numbers: ER25-495-000.

Applicants: Clearwater Wind II, LLC.

Description: Baseline eTariff Filing: R.S. No. 1, CWII and CWIII Co-Tenancy SFA to be effective 11/21/2024.

Filed Date: 11/20/24.

Accession Number: 20241120-5104.

Comment Date: 5 p.m. ET 12/11/24.

Docket Numbers: ER25-496-000.

Applicants: Clearwater Wind III, LLC.

Description: Baseline eTariff Filing: Co-Tenancy SFA Cert. of Concurrence with Clearwater Wind II to be effective 11/21/2024.

Filed Date: 11/20/24.

Accession Number: 20241120-5105.

Comment Date: 5 p.m. ET 12/11/24.

Docket Numbers: ER25-497-000.

Applicants: Tri-State Generation and Transmission Association, Inc.

Description: 205(d) Rate Filing: Amendment to Rate Schedule FERC No. 11 to be effective 1/20/2024.

Filed Date: 11/20/24.

Accession Number: 20241120-5122.

Comment Date: 5 p.m. ET 12/11/24.

Docket Numbers: ER25-498-000.

Applicants: Tri-State Generation and Transmission Association, Inc.

Description: 205(d) Rate Filing: Amendment to Rate Schedule FERC No. 41 to be effective 1/20/2025.

Filed Date: 11/20/24.

Accession Number: 20241120-5153.

Comment Date: 5 p.m. ET 12/11/24.

Docket Numbers: ER25-499-000.

Applicants: PJM Interconnection, L.L.C.

Description: 205(d) Rate Filing: Original GIA, SA No. 7403; Project Identifier AF2-229 to be effective 10/21/2024.

Filed Date: 11/20/24.

Accession Number: 20241120-5155.

Comment Date: 5 p.m. ET 12/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 20, 2024.
Carlos D. Clay,
Acting Deputy Secretary.

[FR Doc. 2024-27707 Filed 11-25-24; 8:45 am]

BILLING CODE 6717-01-P